DEPARTMENT OF ENERGY

Federal Energy Regulatory Commission

[Project Nos. 2364-013, 2365-024 Maine]

Madison Paper Industries, Inc.; Notice of Availability of Environmental Assessment

September 19, 2002.

In accordance with the National Environmental Policy Act of 1969 and the Federal Energy Regulatory Commission's (Commission) regulations, 18 CFR Part 380 (Order No. 486, 52 F.R. 47897), the Office of Energy Projects has reviewed the applications for new licenses for the Anson and Abenaki Hydroelectric Projects, located on the Kennebec River in Somerset County, Maine, and has prepared an Environmental Assessment (EA) for the project. The projects do not occupy any federal lands.

The EA contains the staff's analyzes of the potential environmental impacts of the projects and concludes that licensing the projects, with appropriate environmental protection measures, would not constitute a major federal action significantly affecting the quality of the human environment.

A copy of the FEA is available for review at the Commission in the Public Reference Room or may be viewed on the Commission's website at http://www.ferc.gov using the “FERRIS” link. Enter the docket number excluding the last three digits in the docket number field to access the document. For assistance, call (202) 502-8222 or for TTY, (202) 502-8659.

Any comments should be filed within 30 days from the date of this notice and should be addressed to Magalie R. Salas, Secretary, Federal Energy Regulatory Commission, 888 First Street, NE., Washington, DC 20426. Please affix Project Nos. 2364-013 and 2365-024 to all comments. Comments may be filed electronically via the Internet in lieu of paper. The Commission strongly encourages electronic filings. See 18 CFR 385.2001(a)(1)(iii) and the instructions on the Commission's web site (http://www.ferc.gov) under the “e-Filing” link.

For further information, contact Nan Allen at 202-502-6128.

Linwood A. Watson, Jr.,
Deputy Secretary.

[FR Doc. 02-24324 Filed 9-25-02; 8:45 am]

BILLING CODE 6717-01-P